DEPARTMENT OF TRANSPORTATION

Federal Aviation Administration

Notice of Submission Deadline for International Slots for the Summer 2007 Scheduling Season

AGENCY: Department of Transportation, FAA.

ACTION: Notice of submission deadline

SUMMARY: The FAA announces in this notice that the deadline for submitting requests for international Arrival Authorizations at Chicago O'Hare International Airport (ORD) for allocation under 14 CFR 93.29 is October 12, 2006. This date coincides with the deadline established by the International Air Transport Association (IATA) for the Schedule Coordination Conference for the Summer 2007 season. The FAA will allocate ORD international Arrival Authorizations for the period covering the U.S. Summer Scheduling Season in accordance with recent changes to the start and end dates of daylight saving time in the United States. The applicable period is March 11 through November 3, 2007. The FAA recognizes that these dates differ from the March 25 through October 27, 2007 period used by IATA for the Summer 2007 schedule. Therefore, for those carriers who previously submitted schedules to the FAA through March 24, 2007, as part of the Winter 2006 submission, resubmission is not necessary unless schedule information has changed because the FAA has acted on those submissions. Carriers also may choose to file initial summer schedules through October 27, 2007, the end of the IATA Northern Summer Scheduling Season, and submit the period October 28 through November 3, 2007, as part of winter schedules.

Previously, the FAA designated Chicago's O'Hare International Airport (O'Hare) as a Level 2, Schedules Facilitated Airport under the IATA Guidelines. The FAA has changed the designation for O'Hare to Level 3 based on runway movement parameters under an August 29, 2006, final rule (71 FR 51382). Carriers are advised that this notice does not alter or change any coordination procedures conducted separately for O'Hare's Terminal 5 facilities. The IATA designation for those flights remains Level 2 and information on those submission requirements is available from IATA.

Finally, the FAA notes that the High Density Rule slot limitations for John F. Kennedy International Airport (JFK) will not apply after January 1, 2007, in accordance with 49 U.S.C. § 41715(a)(2). Consequently, the FAA determination for JFK under IATA guidelines has changed to Level 1. Carriers do not need to submit JFK schedules for slot approval.

DATES: Requests for international slots must be submitted no later than October 12, 2006.

ADDRESSES: Requests may be submitted by mail to Slot Administration Office, AGC-220 Office of the Chief Counsel, 800 Independence Ave., SW., Washington, DC 20591; facsimile: 202-267-7277; ARINC: DCAYAXD; or by e-mail to: 7-AWA-slotadmin@faa.gov.

FOR FURTHER INFORMATION CONTACT: Komal Jain, Regulations Division, Office of the Chief Counsel, Federal Aviation Administration, 800 Independence Avenue, SW., Washington, DC 20591; telephone number: 202-267-3073.

Issued in Washington, DC, on September 14, 2006.
James Whitlow,
Deputy Chief Counsel.

[FR Doc. 06-7812 Filed 9-20-06; 8:45 am]

BILLING CODE 4910-13-P